DEPARTMENT OF COMMERCE

National Oceanic and Atmospheric Administration

RIN 0648-XV59

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a determination that an Exempted Fishing Permit (EFP) application contains all of the required information and warrants further consideration. The Assistant Regional Administrator has made a determination that the activities authorized under this EFP would be consistent with the goals and objectives of the Monkfish Fishery Management Plan (FMP). However, further review and consultation may be necessary before a final determination is made to issue an EFP. The EFP will allow commercial fishing vessels to conduct compensation fishing operations that are otherwise restricted by the regulations governing the fisheries of the Northeastern United States. This EFP, which would enable vessels to harvest monkfish in accordance with the provisions of the Monkfish Research Set-Aside (RSA) Program, would grant exemptions from the monkfish days-at-sea (DAS) possession limits in the Southern Fishery Management Area (SFMA).

Regulations under the Magnuson-Stevens Fishery Conservation and Management Act require publication of this notification to provide interested parties the opportunity to comment on applications for proposed EFPs.

DATES: Comments must be received on or before May 3, 2010.

ADDRESSES: You may submit written comments by any of the following methods:

• Email: NERO.EFP@noaa.gov. Include in the subject line “Comments on Monkfish RSA Harvest EFP.”

• Mail: Patricia A. Kurkul, Regional Administrator, NMFS, NE Regional Office, 55 Great Republic Drive, Gloucester, MA 01930. Mark the outside of the envelope “Comments on monkfish RSA harvest EFP, DA10-056.”

• Fax: (978) 281-9135.

FOR FURTHER INFORMATION CONTACT: Anna Macan, Fishery Management Specialist, 978-281-9165.

SUPPLEMENTARY INFORMATION: An application for an EFP was submitted by the Gulf of Maine Research Institute on February 16, 2010, for a project selected under the New England and Mid-Atlantic Fishery Management Councils' Monkfish RSA Program. The final grant is pending a review by NOAA Grants. The project would involve tagging monkfish to investigate migratory patterns and mixing between management areas. This EFP would grant an exemption from monkfish possession limits to vessels for the purpose of harvesting RSA to fund this research project (i.e., compensation fishing).

Compensation fishing for this research would occur from May 2010 through April 2011. The fishing industry collaborators would have access to 313 monkfish DAS that would be awarded to the project through the Monkfish RSA Program. The applicant states that these vessels must be able to land at least 3,600 lb (1,633 kg) of whole monkfish (1,084 lb (492 kg) tail weight) per trip. This amount is based on the way the participating vessels typically fish, which is to land a “double limit” (6,652 lb (3,017 kg)) using 24 hours and 1 minute of DAS. In order to achieve this target catch, these fishing activities would require an exemption from the monkfish SFMA DAS possession limits at § 648.94(b)(2). This exemption would provide these vessels with the flexibility they need to generate sufficient income to meet projected costs of the research activity, while minimizing operating expenses. Based on the preliminary award of 313 DAS and the fishing practice described above, this would require a total catch of 1,126,800 lb (511,108 kg) of whole monkfish (339,398 lb (153,948 kg) tail weight). Operating under this total landings cap, compensation fishing would continue until the required goal of 1,126,800 lb (511,108 kg) of whole monkfish is met, or until the awarded DAS have been fully utilized, whichever occurs first. Aside from this exemption, fishing activity would be conducted under normal commercial fishing practices.

The participating vessels would be required to comply with all other applicable requirements and restrictions specified at 50 CFR part 648, unless specifically exempted in this EFP. Upon implementation of approved measures in Amendment 16 to the Northeast Multispecies FMP, all participating vessels would be required to comply with any other applicable requirements in regulations implementing the amendment.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited. If the research project is terminated for any reason prior to completion, any unused funds collected from catch sold to pay for research expenses may be refunded to NOAA.

Authority: 16 U.S.C. 1801 et seq.

Dated: April 12, 2010.
Emily H. Menashes,
Acting Director, Office of Sustainable Fisheries, National Marine Fisheries Service.

[FR Doc. 2010-8713 Filed 4-15-10; 8:45 am]

BILLING CODE 3510-22-S